DEPARTMENT OF LABOR

Employment and Training Administration

[TA-W-38,457]

Copper Range Company, White Pine, Michigan; Certification of Eligibility to Apply for Worker Adjustment Assistance

Pursuant to Title II, Section 2001, of the Tariff Suspension and Trade Act of 2000 (Pub. L. 106-476), I make the following certification:

All workers of Cooper Range Company, White Pine, Michigan, who were employed at such facility at any time during the period covered by Trade Adjustment Assistance certification TA-W-31,402 (such period beginning on August 21, 1994 and ending on September 26, 1997) and who, on or after September 27, 1997, became totally or partially separated from employment which was necessary for the environmental remediation or closure of such mining facility, are eligible to apply for worker adjustment assistance under Section 223 of the Trade Act of 1974.

Signed in Washington, DC, this 18th day of December, 2000.
Linda G. Poole,
Certifying Officer, Division of Trade Adjustment Assistance.

[FR Doc. 01-1898 Filed 1-22-01; 8:45 am]

BILLING CODE 4510-30-M